SECURITIES AND EXCHANGE COMMISSION

[File No. 500-1]

Bloggerwave, Inc., Cardima, Inc. (n/k/a CLI Liquidating Corporation), Innuity, Inc., Kaleidoscope Venture Capital, Inc., Lipid Sciences, Inc., Radix Marine, Inc., SBS Interactive Co., and VersaTech, Inc. (n/k/a VersaTech USA), Order of Suspension of Trading

May 22, 2013.

It appears to the Securities and Exchange Commission that there is a lack of current and accurate information concerning the securities of Bloggerwave, Inc. because it has not filed any periodic reports since the period ended September 30, 2010.

It appears to the Securities and Exchange Commission that there is a lack of current and accurate information concerning the securities of Cardima, Inc. (n/k/a CLI Liquidating Corporation) because it has not filed any periodic reports since the period ended June 30, 2010.

It appears to the Securities and Exchange Commission that there is a lack of current and accurate information concerning the securities of Innuity, Inc. because it has not filed any periodic reports since the period ended September 30, 2008.

It appears to the Securities and Exchange Commission that there is a lack of current and accurate information concerning the securities of Kaleidoscope Venture Capital, Inc. because it has not filed any periodic reports since the period ended September 30, 2008.

It appears to the Securities and Exchange Commission that there is a lack of current and accurate information concerning the securities of Lipid Sciences, Inc. because it has not filed any periodic reports since the period ended June 30, 2008.

It appears to the Securities and Exchange Commission that there is a lack of current and accurate information concerning the securities of Radix Marine, Inc. because it has not filed any periodic reports since the period ended March 31, 2005.

It appears to the Securities and Exchange Commission that there is a lack of current and accurate information concerning the securities of SBS Interactive Co. because it has not filed any periodic reports since the period ended June 30, 2005.

It appears to the Securities and Exchange Commission that there is a lack of current and accurate information concerning the securities of VersaTech, Inc. (n/k/a VersaTech USA) because it has filed only one periodic report since the period ended September 30, 2005.

The Commission is of the opinion that the public interest and the protection of investors require a suspension of trading in the securities of the above-listed companies. Therefore, it is ordered, pursuant to Section 12(k) of the Securities Exchange Act of 1934, that trading in the securities of the above-listed companies is suspended for the period from 9:30 a.m. EDT on May 22, 2013, through 11:59 p.m. EDT on June 5, 2013.

By the Commission.
Jill M. Peterson,
Assistant Secretary.

[FR Doc. 2013-12555 Filed 5-22-13; 11:15 am]

BILLING CODE 8011-01-P